DEPARTMENT OF ENERGY

Federal Energy Regulatory Commission

[Docket No. CP02-22-001]

Michigan Gas Storage Company; Notice of Application

December 3, 2002.

On November 15, 2002, in Docket No. CP02-22-001, Michigan Gas Storage Company (MGSCo), 212 West Michigan Avenue, Jackson, Michigan 49201, filed Sixth Revised Sheet No.1 to terminate its entire FERC Gas Tariff, First Revised Volume No. 1, effective November 8, 2002. The Commission's February 28, 2002 order, in Docket No. CP02-22-000, conditionally authorized MGSCo to abandon its facilities by transfer to Consumers Energy Company (Consumers), its parent company, and to cancel its FERC Gas Tariff within 10 days of the abandonment. The February 28 Order also directed MGSCo to notify the Commission of the date of the abandonment within ten days after it occurred. MGSCo states that by this filing it providing notice to the Commission that the transfer of its facilities to Consumers occurred on November 8, 2002, as required by the February 28 order, and canceling its FERC Gas Tariff in its entirety.

This filing is available for review at the Commission in the Public Reference Room or may be viewed on the Commission's Web site at http://www.ferc.gov using the “FERRIS” link. Enter the docket number excluding the last three digits in the docket number field to access the document. For assistance, call (202) 502-8222 or for TTY, (202) 502-8659.

Any person desiring to intervene or to protest this filing should file on or before December 26, 2002, with the Federal Energy Regulatory Commission, 888 First Street, NE., Washington, DC 20426, in accordance with Rules 211 and 214 of the Commission's Rules of Practice and Procedure (18 CFR 385.211 and 385.214) and the regulations under the Natural Gas Act (18 CFR 157.10). Protests will be considered by the Commission in determining the appropriate action to be taken, but will not serve to make protestants parties to the proceeding. Any person wishing to become a party must file a motion to intervene. All such motions or protests should be filed on or before, and, to the extent applicable, must be served on the applicant and on any other person designated on the official service list.

Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-31086 Filed 12-6-02; 8:45 am]

BILLING CODE 6717-01-P